DEPARTMENT OF STATE

[Public Notice: 11886]

Defense Trade Advisory Group; Notice of Open Meeting

The Defense Trade Advisory Group (DTAG) will meet in open session from 1:00 p.m. until 5:00 p.m. on Wednesday, November 9, 2022. To maximize accessibility and attendance while recognizing ongoing concerns related to Coronavirus Disease 2019 (COVID-19), the meeting will be held virtually. The virtual forum will open at 12:00 p.m. The membership of this advisory committee consists of private sector defense trade representatives, appointed by the Assistant Secretary of State for Political-Military Affairs, who advise the Department on policies, regulations, and technical issues affecting defense trade. The DTAG was established as an advisory committee under the authority of 22 U.S.C. Sections 2651a and 2656 and the Federal Advisory Committee Act, 5 U.S.C. app.

The purpose of the meeting will be to discuss current defense trade issues and topics for further study. The Directorate of Defense Trade Controls (DDTC) asked the DTAG to complete the following taskings, which will be discussed and presented: (1) identify current industry practices for reporting information required under the Arms Export Control Act (AECA) section 36(b)(1) to the Departments of State and/or Defense, and provide recommendations to ensure these Departments would receive this same information if DDTC were to move to an annual part 130 reporting requirement, (2) review the interaction between section 120.43(a) and (b)(1), and section 121.1 “developmental” entries and recommend clarifications, if necessary, to better illustrate the two phases and when a transition from one stage to the other occurs, and (3) identify factors that parent companies take into consideration to ensure joint ventures comply with various International Traffic in Arms Regulations (ITAR) requirements, and that DTAG also provide the industry perspective on any related challenges.

The meeting will be held virtually via WebEx. There will be one WebEx invitation for each attendee, and only the invited attendee should use the invitation. Please let us know if you need any of the following accommodations: live captions, digital/text versions of webinar materials, or other (please specify).

Members of the public may attend this virtual session and may submit questions by email following the formal DTAG presentation. Members of the public may also submit a brief statement (less than three pages) to the committee in writing for inclusion in the public minutes of the meeting. Each member of the public that wishes to attend this session must provide: Name and contact information, including an email address and phone number, and any request for reasonable accommodation to the DTAG Designated Federal Officer (DFO), Deputy Assistant Secretary Michael Miller, via email at DTAG@state.gov by COB Monday, November 7, 2022.

FOR FURTHER INFORMATION CONTACT: Ms. Karen Booker-Francis, PM/DDTC, SA-1, 12th Floor, Directorate of Defense Trade Controls, Bureau of Political-Military Affairs, U.S. Department of State, Washington, DC 20522-0112; telephone (771) 204-0519 or email DTAG@state.gov.

(Authority: 22 U.S.C. 2651a and 41 CFR 102-3.150.)

Michael F. Miller,
Designated Federal Officer, Defense Trade Advisory Group, U.S. Department of State.

[FR Doc. 2022-22466 Filed 10-14-22; 8:45 am]

BILLING CODE 4710-25-P